DEPARTMENT OF COMMERCE

National Oceanic and Atmospheric Administration

RIN 0648-XE208

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Northeast Trawl Advisory Panel (NTAP) will hold a public meeting.

DATES: The meeting will be held on Thursday, October 15, 2015, from 8 a.m. to 5 p.m. For agenda details, see SUPPLEMENTARY INFORMATION.

ADDRESSES: The meeting will held at the Radisson Hotel Providence Airport, 2081 Post Road, Warwick, RI 02886; telephone: (401) 739-3000.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: The NTAP is a joint advisory panel of the Mid-Atlantic and New England Fishery Management Councils. It is composed of Council members, fishing industry, academic, and government and non-government fisheries experts who will provide advice and direction on the conduct of trawl research. The NTAP was established to bring commercial fishing, fisheries science, and fishery management professionals in the northeastern US together to identify concerns about regional research survey performance and data, to identify methods to address or mitigate these concerns, and to promote mutual understanding and acceptance of the results of this work among their peers and in the broader community. Topics to be discussed at the meeting include: review NTAP Charter, review NEFSC Trawl Survey, and discuss additional trawl research/complementary surveys.

Special Accommodations

The meeting is physically accessible to people with disabilities. Requests for sign language interpretation or other auxiliary aid should be directed to M. Jan Saunders, (302) 526-5251, at least 5 days prior to the meeting date.

Dated: September 23, 2015.
Tracey L. Thompson,
Acting Deputy Director, Office of Sustainable Fisheries, National Marine Fisheries Service.

[FR Doc. 2015-24554 Filed 9-25-15; 8:45 am]

BILLING CODE 3510-22-P